NUCLEAR REGULATORY COMMISSION

10 CFR Part 50

[NRC-2024-0163]

RIN 3150-AL20

Approval of American Society of Mechanical Engineers Unconditioned Code Cases

AGENCY: Nuclear Regulatory Commission.

ACTION: Direct final rule; confirmation of effective date.

SUMMARY: The U.S. Nuclear Regulatory Commission (NRC) is confirming the effective date of January 26, 2026, for the direct final rule that was published in the Federal Register on September 26, 2025. This direct final rule amended the regulations to incorporate by reference a regulatory guide that approved unconditioned code cases published by the American Society of Mechanical Engineers. This action allows nuclear power plant applicants and licensees to use the code cases as voluntary alternatives to engineering standards for nuclear power plant components.

DATES: The effective date of January 26, 2026, for the direct final rule published September 26, 2025 (90 FR 46319), is confirmed. The incorporation by reference of certain material listed in the regulation is approved by the Director of the Federal Register as of January 26, 2026.

ADDRESSES: Please refer to Docket ID NRC-2024-0163 when contacting the NRC about the availability of information for this action. You may obtain publicly available information related to this action by any of the following methods:

• Federal Rulemaking Website: Go to https://www.regulations.gov and search for Docket ID NRC-2024-0163. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Nicole Fields, Office of Nuclear Material Safety and Safeguards, telephone: 630-829-9570, email: Nicole.Fields@nrc.gov; or Jay Collins, Office of Nuclear Reactor Regulation, telephone: 301-415-4038, email: Jay.Collins@nrc.gov. Both are staff of the U.S. Nuclear Regulatory Commission, Washington, DC 20555-0001.

SUPPLEMENTARY INFORMATION:

I. Background

On September 26, 2025 (90 FR 46319), the NRC published a direct final rule (DFR) amending its regulations in part 50 of title 10 of the Code of Federal Regulations to incorporate by reference a new regulatory guide 1.262 that approved certain code cases published by the American Society of Mechanical Engineers. In the DFR, the NRC stated that if no significant adverse comments were received, the DFR would become effective on January 26, 2026.

The NRC received and docketed four comment submissions on the companion proposed rule (90 FR 46360; September 26, 2025). Electronic copies of the comments can be obtained from the Federal rulemaking website https://www.regulations.gov under Docket ID NRC-2024-0163 and also are available in ADAMS under Accession Nos. ML25322A218, ML25322A219, ML25330A149, and ML25336A260. As explained in the September 26, 2025, DFR, the NRC would withdraw the DFR only if it received a significant adverse comment. A significant adverse comment is a comment where the commenter explains why the rule would be inappropriate, challenges its underlying premise or approach, or shows why it would be ineffective or unacceptable without a change. A comment is adverse and significant if:

(1) The comment opposes the rule and provides a reason sufficient to require a substantive response in a notice-and-comment process. For example, a substantive response is required when:

(a) The comment causes the NRC staff to reevaluate (or reconsider) its position or conduct additional analysis;

(b) The comment raises an issue serious enough to warrant a substantive response to clarify or complete the record; or

(c) The comment raises a relevant issue that was not previously addressed or considered by the NRC staff.

(2) The comment proposes a change or an addition to the rule, and it is apparent that the rule would be ineffective or unacceptable without incorporation of the change or addition; or

(3) The comment causes the NRC staff to make a change (other than editorial) to the rule.

The NRC evaluated the comments against these criteria and determined that none of the comments submitted on the companion proposed rule are significant adverse comments. The public comments received on this action did not warrant any additions or changes to the DFR. The NRC is not making any changes to the rule; it is apparent that the rule is effective and acceptable as proposed, without the need for a change or addition. The comments did not raise a relevant issue that was not previously addressed or considered by the NRC, and the comments did not cause the NRC to either (1) reevaluate or reconsider its position or (2) conduct additional analyses. Therefore, the NRC did not receive any significant adverse comments, and this DFR will become effective as scheduled. However, the NRC is providing the following clarifications regarding its processes for approving code cases and overseeing their use.

The National Technology Transfer and Advancement Act (NTTAA) of 1995 instructs Federal agencies to consider using technical standards that are developed or adopted by voluntary consensus standard bodies, like the American Society of Mechanical Engineers (ASME). Further, under the NTTAA, Federal agencies participate with such bodies in the development of relevant technical standards. The NRC follows the NTTAA by assigning staff to participate in the ASME Code review and approval process for ASME code cases that could be incorporated by reference by rule. Through this process, the NRC staff reviews each code case for technical adequacy, inspection impact, applicability to plants, and other issues. The ASME Code process is performed to ensure each code case will provide rules of safety relating to pressure integrity, structural integrity of nuclear components, and the inservice inspection of nuclear components; accordingly, this process addresses the same issues that would be considered in an NRC safety evaluation. As members of specific ASME Code committees, the NRC staff participate in technical reviews and vote to accept or reject each code case during the ASME Code process. As part of the development of a rule to approve the use of code cases, the NRC independently determines whether ASME code cases can be accepted with or without conditions.

Once code cases are approved for use with or without conditions, the NRC provides ongoing oversight of licensees' voluntary use of code cases. Although the flexibility provided to licensees to either adopt or to not adopt these optional code cases can lead to differences in implementation between reactor licensees, each reactor licensee is responsible for maintaining the records for its facility in accordance with 10 CFR 50.71, “Maintenance of records, making of reports.” The reactor oversight process (ROP) (https://www.nrc.gov/reactors/operating/oversight/rop-description) includes baseline NRC inspections for each reactor licensee and is designed to accommodate the different licensing bases of each reactor licensee. The reactor baseline inspection program is designed to focus on activities and systems that are risk significant, which could include licensee implementation of code cases.

II. Availability of Documents

The documents identified in the following table are available to interested persons through one or more of the following methods, as indicated.

Document | Adams Accession No./web link/Federal Register citation
Federal Register Notice, Direct Final Rule: “Approval of American Society of Mechanical Engineers Unconditioned Code Cases,” September 26, 2025 | 90 FR 46319.
Federal Register Notice, Proposed Rule: “Approval of American Society of Mechanical Engineers Unconditioned Code Cases,” September 26, 2025 | 90 FR 46360.
Comment (001) from Citizens Rulemaking Alliance on Approval of American Society of Mechanical Engineers Unconditioned Code Cases | ML25322A218.
Comment (002) from Aron Shklar on Approval of American Society of Mechanical Engineers Unconditioned Code Cases | ML25322A219.
Comment (003) from Anonymous on Approval of American Society of Mechanical Engineers Unconditioned Code Cases | ML25330A149.
Comment (004) from Anonymous on Approval of American Society of Mechanical Engineers Unconditioned Code Cases | ML25336A260.
Regulatory Guide 1.262, “ASME Code Cases Approved for Use Without Conditions,” Revision 0, July 2025 | ML25091A013.
Reactor Oversight Process (ROP) Framework | https://www.nrc.gov/reactors/operating/oversight/rop-description.

Dated: January 22, 2026.
For the Nuclear Regulatory Commission.
Krupskaya Castellon,
Acting Chief, Regulatory Analysis and Rulemaking Support Branch, Division of Rulemaking, Environmental, and Financial Support, Office of Nuclear Material Safety and Safeguards.

[FR Doc. 2026-01494 Filed 1-26-26; 8:45 am]

BILLING CODE 7590-01-P